Proclamation 8681 of May 20, 2011

Armed Forces Day, 2011

By the President of the United States of America

A Proclamation

The Armed Forces of the United States of America embody the highest ideals of our Nation. Serving at home and in posts around the world, our service members represent America as ambassadors of our principles. They display the honor, duty, and discipline of the finest fighting force the world has ever known. These brave men and women are willing to sacrifice their lives for the security of our Nation and the freedoms of their fellow citizens. We are humbled by their continued resolve to respond to the call of duty and defend America and its people.

From our earliest days as a fledgling republic, the United States has relied on the unwavering courage and patriotism of our men and women in uniform to sustain us through wars, emergencies, and challenges at home and abroad. While conflicts in Iraq, Afghanistan, and other areas demand an ever-changing set of capabilities and competencies, our service members continue to protect our Nation with professionalism and distinction.

As a grateful Nation, we are indebted to the members of our Armed Forces for their service, and we support them in each mission they are tasked to accomplish. I have no greater privilege as President of the United States than serving as Commander in Chief, and my Administration is dedicated to providing the men and women of our Armed Forces with the resources and support they require and deserve. We are also committed to providing the same superior support to our veterans when they return home. This is the sacred trust our Nation must hold with her warriors.

It is not just our troops who are called to serve and sacrifice, but also their families, who give our service members the love and support they need to carry on the fight. We will continue to improve and enhance our support for the families and survivors our troops leave behind. These heroes are dedicated to defending the country we love, and we must stand firmly beside them and help care for their spouses and children.

On Armed Forces Day, let us salute the Soldiers, Sailors, Airmen, Marines, and Coast Guardsmen who perform their duties with impeccable courage, commitment, and character, and recognize our moral obligation to serve them and their families as well as they have served us.

NOW, THEREFORE, I, BARACK OBAMA, President of the United States of America, and Commander in Chief of the Armed Forces of the United States, continuing the precedent of my predecessors in office, do hereby proclaim the third Saturday of May as Armed Forces Day.

I direct the Secretary of Defense on behalf of the Army, Navy, Air Force, and Marine Corps, and the Secretary of Homeland Security on behalf of the Coast Guard, to plan for appropriate observances, with the Secretary of Defense responsible for encouraging the participation and cooperation of civil authorities and private citizens.

I invite the Governors of the States, the Commonwealth of Puerto Rico, and other areas subject to the jurisdiction of the United States, to provide for the observance of Armed Forces Day in an appropriate manner to increase public understanding and appreciation of our Armed Forces. I also invite veterans, civic leaders, and other organizations to join in the observance of Armed Forces Day.

Finally, I call upon all Americans to display the flag of the United States at their homes on Armed Forces Day, and I urge citizens to learn more about military service by attending and participating in the local observances of the day. I also encourage Americans to volunteer at organizations that provide support to our troops.

Proclamation 8522 of May 14, 2010, is hereby superseded.

IN WITNESS WHEREOF, I have hereunto set my hand this twentieth day of May, in the year of our Lord two thousand eleven, and of the Independence of the United States of America the two hundred and thirty-fifth.

[FR Doc. 2011-13168

Filed 5-24-11; 11:15 am]

Billing code 3195-W1-P